DEPARTMENT OF VETERANS AFFAIRS

[OMB Control No. 2900-0156]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection and allow 60 days for public comment in response to the notice. This notice solicits comments for information needed to report changes in a student enrollment status.

DATES: Written comments and recommendations on the proposed collection of information should be received on or before February 3, 2003.

ADDRESSES: Submit written comments on the collection of information to Nancy J. Kessinger, Veterans Benefits Administration (20S52), Department of Veterans Affairs, 810 Vermont Avenue, NW., Washington, DC 20420 or e-mail: irmnkess@vba.va.gov. Please refer to “OMB Control No. 2900-0156” in any correspondence.

FOR FURTHER INFORMATION CONTACT: Nancy J. Kessinger at (202) 273-7079 or FAX (202) 275-5947.

SUPPLEMENTARY INFORMATION: Under the PRA of 1995 (Public Law 104-13; 44 U.S.C., 3501-3520), Federal agencies must obtain approval from the Office of Management and Budget (OMB) for each collection of information they conduct or sponsor. This request for comment is being made pursuant to section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Notice of Change in Student Status (Under Chapter 30, 32, or 35, Title 38, U.S.C; Chapter 1606, Title 10. U.S.C. or section 901 or 903 of Pub. L. 96-342), VA Form 22-1999b.

OMB Control Number: 2900-0156.

Type of Review: Extension of a currently approved collection.

Abstract: VA Form 22-1999b is used by educational institutions to report changes in the enrollment of students in receipt of VA education benefits. The information is used to determine a student's entitlement to educational benefits or whether the benefit should be increased, decreased, or terminated. Without this information, VA might underpay or overpay benefits.

Affected Public: State, local or tribal government, business or other for-profit, and not-for-profit institutions.

Estimated Annual Burden: 24,750 hours. VA Form 22-1999b—13,750. VA Form 22-1999b Electronically Filed—11,000.

Estimated Average Burden Per Respondent: VA Form 22-1999b—5 minutes. VA Form 22-1999b Electronically Filed—4 minutes.

Frequency of Response: On occasion.

Estimated Number of Respondents: 9,817.

Number of Responses Annually: 330,000. VA Form 22-1999b—165,000. VA Form 22-1999b Electronically Filed—165,000.

Dated: November 22, 2002.
By direction of the Secretary.
Ernesto Castro,
Director, Records Management Service.

[FR Doc. 02-30587 Filed 12-2-02; 8:45 am]

BILLING CODE 8320-01-P